DEPARTMENT OF HEALTH AND HUMAN SERVICES

National Institutes of Health

Office of the Director, National Institutes of Health; Amended Notice of Meeting

Notice is hereby given of a change in the meeting of the Council of Councils, January 29, 2026 10:00 a.m. to January 29, 2026, 05:25 p.m., National Institutes of Health, Building 1, Room 260, 1 Center Drive, Bethesda, MD 20892, Virtual Meeting, which was published in the Federal Register on January 13, 2026, 91 FR 1542, Doc. 00546.

This meeting is being amended to change the closed session from 2:00 p.m. to 5:25 p.m. to 1:00 p.m. to 2:00 p.m.; and adding a second open session from 2:00 p.m. to 5:25 p.m. The meeting is Virtual and partially closed to the public.

Dated: January 20, 2026.
Bruce A. George,
Program Analyst, Office of Federal Advisory Committee Policy.

[FR Doc. 2026-01200 Filed 1-22-26; 8:45 am]

BILLING CODE 4140-01-P